DEPARTMENT OF ENERGY

Federal Energy Regulatory Commission

[Docket No. RP02-116-002]

Northwest Pipeline Corporation; Notice of Compliance Filing

December 10, 2003.

Take notice that on December 5, 2003, Northwest Pipeline Corporation (Northwest) tendered for filing as part of its FERC Gas Tariff, Third Revised Volume No. 1, the following tariff sheets, to be effective as indicated:

Effective January 1, 2002

Substitute Fourth Revised Sheet No. 303-A

Effective October 1, 2002

Substitute Fifth Revised Sheet No. 303-A

Northwest states that it has revised its tariff in compliance with the Commission's Order dated November 18, 2003, to provide that the value of any gas to which it takes title pursuant to Section 5.2 of Rate Schedule DEX-1 will be credited to shippers through its penalty crediting mechanism.

Northwest states that a copy of this filing has been served upon each person designated on the official service list compiled by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00577 Filed 12-16-03; 8:45 am]

BILLING CODE 6717-01-P